COMMODITY FUTURES TRADING COMMISSION

Meeting; Technology Advisory Committee

AGENCY: Commodity Futures Trading Commission (CFTC).

ACTION: Notice of emergency meeting of technology advisory committee.

SUMMARY: The CFTC announces that on Thursday, July 26, 2012, the CFTC's Technology Advisory Committee (“TAC”) will hold an emergency public meeting at the CFTC's Washington, DC headquarters, from 10:00 a.m. to 4:00 p.m. The TAC will focus on possible technology solutions to, among other things, enable futures commission merchant customers, self-regulatory organizations and the CFTC to verify in near real-time the accuracy of the amount of funds held in customer segregated accounts.

DATES: The meeting will be held on July 26, 2012, from 10:00 a.m. to 4:00 p.m. Members of the public who wish to submit written statements in connection with the meeting should submit them by July 19, 2012.

ADDRESSES: The meeting will take place in the Conference Center at the CFTC's headquarters, Three Lafayette Centre, 1155 21st Street NW., Washington, DC 20581. Written statements should be submitted to: Commodity Futures Trading Commission, Three Lafayette Centre, 1155 21st Street NW., Washington, DC 20581, attention: Office of the Secretary. Please use the title “Technology Advisory Committee” in any written statement you may submit. Any statements submitted in connection with the committee meeting will be made available to the public.

FOR FURTHER INFORMATION CONTACT: Laura Gardy, Commodity Futures Trading Commission, Three Lafayette Centre, 1155 21st Street NW., Washington, DC 20581, (202) 418-5354.

SUPPLEMENTARY INFORMATION: This emergency meeting of the TAC is being held in response to the Commission's July 10, 2012 complaint against Peregrine Financial Group Inc. (PFG), a registered futures commission merchant (FCM), and its owner, Russell R. Wasendorf, Sr., alleging fraud by misappropriating customer funds, violations of customer fund segregation laws, and making false statements in financial statements filed with the Commission. The filing of the complaint was triggered by a National Futures Association (NFA) audit conducted earlier this month which revealed that despite PFG's representations that it held in excess of $220 million of customer funds, in fact, PFG held approximately $5.1 million.

This meeting will focus on technological solutions to providing the CFTC, self-regulatory organizations, and futures commission merchant customers direct access to customer segregated account information in order to help eliminate the possibility of theft and misappropriation of customer funds. The TAC will explore related technological and legal issues through panel presentations and open discussion. The meeting will be open to the public with seating on a first-come, first-served basis. Members of the public who wish to listen to the meeting by telephone may do so by calling a toll-free telephone line to contact to a live, listen-only audio feed. Call-in participants should be prepared to provide their first name, last name and affiliation. Additionally, a video recording of the meeting will be published through a link on the CFTC's Web site.

All written submissions provided to the CFTC in any form will also be published on the Web site of the CFTC.

Domestic Toll Free: 1-866-844-9416.

International Toll: Under Related Documents to be posted on www.cftc.gov.

Conference ID: 8311506.

Call Leader Name: Michael Jones.

Pass Code/Pin Code: CFTC.

Authority: 5 U.S.C. app. 2 § 10(a)(2)

By the Commodity Futures Trading Commission.
Dated: July 17, 2012.
Sauntia S. Warfield,
Assistant Secretary of the Commission.

[FR Doc. 2012-17856 Filed 7-20-12; 8:45 am]

BILLING CODE P